DEPARTMENT OF THE INTERIOR

National Park Service

[NPS-WASO-NAGPRA-NPS0031784; PPWOCRADN0-PCU00RP14.R50000]

Notice of Inventory Completion: San Bernardino County Museum, Redlands, CA

AGENCY: National Park Service, Interior.

ACTION: Notice.

SUMMARY: The San Bernardino County Museum (SBCM) has completed an inventory of human remains and associated funerary objects, in consultation with the appropriate Indian Tribes or Native Hawaiian organizations, and has determined that there is a cultural affiliation between the human remains and associated funerary objects, and present-day Indian Tribes or Native Hawaiian organizations. Lineal descendants or representatives of any Indian Tribe or Native Hawaiian organization not identified in this notice that wish to request transfer of control of these human remains and associated funerary objects should submit a written request to the San Bernardino County Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the San Bernardino County Museum at the address in this notice by May 27, 2021.

ADDRESSES: Tamara Serrao-Leiva, San Bernardino County Museum, 2024 Orange Tree Lane, Redlands, CA 92374, telephone (909) 798-8623, email tserrao-leiva@sbcm.sbcounty.gov.

SUPPLEMENTARY INFORMATION: Notice is here given in accordance with the Native American Graves Protection and Repatriation Act (NAGPRA), 25 U.S.C. 3003, of the completion of an inventory of human remains and associated funerary objects under the control of the San Bernardino County Museum, Redlands, CA. The human remains and associated funerary objects were removed from San Bernardino County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Bernardino County Museum professional staff in consultation with representatives of the Agua Caliente Band of Cahuilla Indians of the Agua Caliente Indian Reservation, California; Cabazon Band of Mission Indians, California; Cahuilla Band of Indians [previously listed as Cahuilla Band of Mission Indians of the Cahuilla Reservation, California]; Morongo Band of Mission Indians, California [previously listed as Morongo Band of Cahuilla Mission Indians of the Morongo Reservation]; San Manuel Band of Mission Indians, California [previously listed as San Manual Band of Serrano Mission Indians of the San Manual Reservation]; Santa Rosa Band of Cahuilla Indians, California [previously listed as Santa Rosa Band of Cahuilla Mission Indians of the Santa Rosa Reservation]; Twenty-Nine Palms Band of Mission Indians of California; and the Mission Creek Band of Mission Indians, a non-federally recognized Indian group. In addition, the Augustine Band of Cahuilla Indians, California [previously listed as Augustine Band of Cahuilla Mission Indians of the Augustine Reservation]; Los Coyotes Band of Cahuilla and Cupeno Indians, California [previously listed as Los Coyotes Band of Cahuilla & Cupeno Indians of the Los Coyotes Reservation]; Ramona Band of Cahuilla, California [previously listed as Ramona Band or Village of Cahuilla Mission Indians of California]; and the Torres Martinez Desert Cahuilla Indians, California [previously listed as Torres-Martinez Band of Cahuilla Mission Indians of California] were invited to consult, but did not participate. Hereafter, all the Indian Tribes and groups listed above are referred to as “The Consulted and Invited Tribes and Groups.”

History and Description of the Remains

In 1947, human remains representing, at minimum, one individual were removed from Yucaipat (SBCM-1, CA-SBR-1000) in San Bernardino County, CA. The human remains belong to an individual of unknown age and sex, and include six teeth identified by a label reading “IMi-3, Indian Burial, Simpson Ranch, Yucaipa, CA, LBM 1949”; three toe bones identified by a label reading “IMi-4 Indian Burial, Simpson Ranch, Yucaipa, Calif., LBM 1949”; one lot of bone fragments identified by a label reading “SBCM-1, SBR-1000, Cultural Level `B' N5Y, 120-130 cm”; and one tooth identified by a label reading “#121 Human tooth, #122 YT1-76 Bone tool Q8, 3′ to 6.” No known individual was identified. The four associated funerary objects are one lot of shell, one lot of fragmented faunal bone, one lot of stone tools, and one lot of bone tools.

These human remains are identified by a label reading “Yucaipa, SBCM-1, SBR-1000.” SBCM-1 has two loci, A and B. SBCM-1 (A) was officially recorded in 1947 by Gerald Smith of the San Bernardino Museum, who identified it as a “mourning ceremonial site” containing “flexed burials at depth of 2-to-3 feet—also possible cremation.” Site SBCM 1 (B) was recorded in 1933, also by G. Smith, who reported “three known burials—all flexed.” Excavations at Yucaipat were led by G. Smith in 1947, and by G. Becker of the University of Redlands in 1948-49. Both excavators noted that the site had been disturbed by pothunters. On December 28, 1962, G. Smith updated the site record. In 1976, additional excavations were conducted at the site on behalf of the Yucaipa Valley Water District by P. Martz, who provided a catalog of the collected objects.

A preponderance of the evidence supports a determination that the human remains are Native American, based on the artifactual context and skeletal taphonomy. Ethnohistoric evidence indicates that the area around Yucaipa, CA, was occupied by the Serrano Tribe during the Protohistoric period. In 1918, Serrano consultants identified the town of Yucaipa, where site CA-SBR-1000 is located, as the site of the Serrano village of Yucaipat.

Sometime prior to 2019, human remains representing, at minimum, one individual were removed from Muscupiabit, Camp Cajon Site (SBCM-2; CA-SBR-425) in San Bernardino County, CA. The Camp Cajon Site was owned by the San Bernardino County Museum Association until 2019, when it was transferred to San Manuel Band of Mission Indians. The human remains consist of a skull fragment belonging to an adult individual of unknown sex. No known individual was identified. No associated funerary objects are present.

Although these human remains are identified by a label reading “Muscupiabit, Camp Cajon, SBCM-2, SBR-425,” and are described as having been “pulled from the excavations at Muscipiabit in the Cajon Pass,” no date is listed for their removal, and no burials at the site have ever been reported. The first documented excavations at Muscupiabit were undertaken by the Archaeological Survey Association (ASA) in 1949 and 1951, under the direction of G. Smith; a catalog of the finds was compiled by P. Jertberg in 1975. During 1976-79, excavations resumed, first under G. Becker (University of Redlands) and then under R. Baty. During 1983-84, systematic tests were conducted at the site by T. Blackburn (Cal Poly Pomona), followed by a Cal Poly student survey directed by R. Morehouse (1984-1985). In 1987-1988, R. Baty conducted a formal survey of the site. In 1988, D. Grenda (under Baty's supervision) performed additional excavations. In 2008, Calnev Pipeline, LLC entered the property to conduct environmental and cultural surveys.

A preponderance of the evidence supports a determination that the human remains are Native American, based on the artifactual context and skeletal taphonomy. Ethnohistoric evidence indicates that the area around the Cajon Pass was occupied by the Serrano Tribe during the prehistoric and protohistoric period. This area has traditionally been identified as Serrano ancestral territory. When interviewed by John P. Harrington in the early 1900s, Serrano tribal leader Santos Manuel (namesake of the San Manuel Band of Mission Indians), called this area of Cajon Pass ”amutskupiat” (a Serrano space). CA-SBR-425 is the archeological site associated with the Serrano village known today as Muscupiabit.

Sometime prior to 2019, human remains representing, at minimum, one individual were removed from Horse Thief Canyon, Las Flores Ranch, Guapiabit (SBCM-13; CA-SBR-93, CA-SBR-1913, CA-SBR-1673, CA-SBR-1675/H, P36-0093) in San Bernardino County, CA. The age and sex of the individual are unknown. No known individual was identified. No associated funerary objects are present.

Site CA-SBR-93 was recorded in 1938 by G. Smith, who reported cremations and circular depressions on the Musgrove family-owned ranch. In 1949, an ASA survey uncovered basket mortars, manos, metates, “killed” mortars, and “many deer bones.” In 1961, students under SBCM's supervision mapped 142 depressions and excavated one of them. In 1969, ASA did another survey for a pipeline project to Cedar Springs Dam. In 1990, Sutton and Schneider recorded the eastern part of the site as CA-SBR-1913, -1673, and -1675/H. Sutton curated 17 artifacts at the museum in 1990, following the Phase I archeological survey conducted by SAIC (formerly URS). The Chambers Group found human remains at SBR-1913, as did Sutton (in test pit JS-1). (The Chambers Group, Inc. has a report on file written by Judy Suchey in 1990, and entitled, “Analysis of Cremains (SBR-1913, Burial 1) Originated from Las Flores Ranch, San Bernardino, CA.”)

A preponderance of the evidence supports a determination that the human remains are Native American, based on the artifactual context and skeletal taphonomy, as determined by physical anthropologists Wesley Niewoehner (CSUSB) and Karimah Richardson (UCR). Ethnohistoric and artifactual evidence indicates that the area around the Las Flores Ranch was occupied by the Serrano Tribe during the protohistoric and historic periods. This area has traditionally and historically been identified as Serrano ancestral territory. When interviewed by John P. Harrington in the early 1900s, Serrano tribal leader Santos Manuel called the area of Summit Valley “wa'peat” (a Serrano space). CA-SBR-93 is one of many archeological sites located within the Serrano village known today as Guapiabit.

In 1938, human remains representing, at minimum, one individual were removed from Slover Mountain (SBCM-40, CA-SBR-1576) in San Bernardino County, CA. G. Smith found and collected tooth crowns, shells, and flakes by in 1938 on Slover Mountain, which was owned by the Portland Cement Company. The site record completed by G. Smith in 1938 lists a campsite, sand dunes, and some historic buildings. The age and sex of the individual are unknown. No known individual was identified. The two associated funerary objects are one lot of shells and one lot of stone flakes.

There is little information to establish a time-period for these human remains. The presence of an atlatl led G. Smith to believe the site was at least 3000 years old from. That date was later confirmed by URS consultants, who dated a charcoal stain on the upper terrace to 2790 +/−80 RCYBP. Artifacts represent the remnants of a Late Prehistoric habitation site intermixed with remains from multiple, shorter-duration site use as early as the Late Millingstone Horizon.

A preponderance of the evidence supports a determination that the human remains are Native American, based on the artifactual context. While geographic evidence indicates this site falls within both Serrano and Cahuilla traditional territory, ethnohistoric evidence indicates that both Hurupit and Arhangk were Serrano Villages. A circa 1970 report by an unknown author states that the Serrano were “claiming ownership of the cement plant lands” during G. Smith's excavations. The San Manuel Band of Mission Indians identifies SBR-1576 as the Serrano village of Jurupet. The village is inclusive of the La Loma Hills, this portion of the Santa Ana River, and the area north to CA-SBR-1576. Located southwest of the Serrano village of Junubabit (where Interstate 215 and Interstate 10 intersect), Jurupet is the southernmost Serrano village along the Santa Ana River.

In 1939, human remains representing, at minimum, two individuals were removed from Hesperia (SBCM-47, CA-SBR-117) in San Bernardino County, CA. Located on the west side of the Mojave River, the site was recorded by G. Smith on June 23, 1939. The human remains belong to a 12-year-old male and an adult female approximately 21 years old. No known individuals were identified. The six associated funerary objects are one round metal tin, one chert point, one lot of mixed bone, one lot of ochre, one quartz flake, and one stone pendant.

There is little information to establish a time-period for these human remains. A preponderance of the evidence supports a determination that the human remains are Native American, based on the artifactual context and skeletal taphonomy, as determined by physical anthropologist Karimah Richardson (UCR). Ethnohistoric and artifactual evidence indicates that the area around the Victor Valley and Hesperia was occupied by the Serrano Tribe during the prehistoric and historic periods. This area has traditionally and historically been identified as Serrano ancestral territory. When interviewed by John P. Harrington in the early 1900s, Serrano tribal leader Santos Manuel called the area of Summit Valley “wa'peat” (a Serrano space). CA-SBR-177 is located just north of the Serrano village of known today as Guapiabit and south of the Serrano village of Atongaibit.

From 1977-1978, human remains representing, at minimum, one individual were removed from the Oro Grande Site (SBCM-616, CA-SBR-72, CA-SBR-53, CA-SBR-61, CA-SBR-69) in San Bernardino County, CA. The Oro Grande site was originally recorded by G. Smith of the San Bernardino Museum, who identified it as a large late-period village. Between 1977-1979, the site was investigated by the Archaeological Research Unit (ARU) at the University of California, Riverside (Rector et al. 1983). No human remains were recorded, but in July 2019, during a routine inventory, Curator of Anthropology Tamara Serrao-Leiva found four bags of bones marked “Homo” (two bags with teeth fragments, and two bags of maxila fragments). The human remains (excavation unit 74N 160E Level 43 below datum 8-26-78), consisting of a burned humorous fragment, two small mandible pieces, and tooth fragments, belong to a child of indeterminate sex. No known individuals were identified. The 12 associated funerary objects are: Four lots of shell beads, three lots of burned faunal fragments, one lot of stone tool fragments, one lot of charcoal, one grooved metal fragment (possibly a bullet), one lot of red paint stones, and one lot of pendants.

A preponderance of the evidence supports a determination that the individuals are Native American, based on the artifactual context and skeletal taphonomy, as determined by physical anthropologist Karimah Richardson (UCR). Chronological seriation of shell and stone bead artifacts suggest occupation at the Oro Grande site could date as early as 2500 B.P. to as late as 500 B.P. Ethnohistoric and artifactual evidence indicate that the area around the Footprint/Oro Grande Site was occupied by the Serrano Tribe during Middle Holocene to Historic periods, with the height of occupation around 1000 B.P. Located near the Serrano village of Topipabit, this area has traditionally been identified as Serrano ancestral territory. When interviewed by John P. Harrington in the early 1900s, Serrano tribal leader Santos Manuel called this portion of the Mojave River by the Serrano name Tamapiat.

In October 1974, human remains representing, at minimum, one individual were removed from Lenwood Dunes (SBCM-3176, CA-SBR-1549) in San Bernardino County, CA, by Robert Reynolds. A flexed burial was found on the P.J. Vogel Ranch at the Lenwood Dunes, located in the Mojave Desert on the Mojave River terrace. According to the site record, the human remains were aligned along a northwest axis. The burial was located within a prehistoric camp containing cremations; a similar flexed burial was found nearby, at CA-SBR-189 (BLM). The human remains were collected using the common paleontological technique of “jacketing.” In the spring of 1993, the skeleton was excavated from the jacket. Osteological analysis revealed that individual was probably a male, about 55 years of age. No known individual was identified. The two associated funerary objects are one lot of faunal fragments and one desert side-notched projectile point. The point dates between 1000 and 1300 A.D.

A preponderance of the evidence supports a determination that the individual is Native American, based on the archeological context, position of individual, and presence of in situ artifacts. Ethnohistoric and artifactual evidence indicates that the area around the Lenwood Dunes was occupied by the Serrano Tribe, often called the Vanyume or Desert Serrano. This area has traditionally been identified as Serrano ancestral territory. CA-SBR-1549 is one of many sites located within the Serrano village of Sisugenat. When interviewed by John P. Harrington in the early 1900s, Serrano tribal leader Santos Manuel called this portion of the Mojave River by the Serrano name Maviat.

In the fall of 1979, human remains representing, at minimum, one individual were removed from Daggett Solar Site (SBCM-4072, CA-SBR-3427) in San Bernardino County, CA. In the course of performing a paleontological monitoring and salvaging project during construction of the Ten Megawatt Solar Generating Pilot Plant at Daggett, the San Bernardino County Museum Association excavated a human skeleton located 5.5 feet below the surface. The excavators associated the human remains stratigraphically with Pleistocene fauna, while nearby subsurface artifacts reflected an occupation of the site during the late prehistoric period (2090 years B.P.). In April 1980, a charcoal sample that had been stratigraphically associated with the human remains was C-14 dated to 7350+/− 115 years B.P. No known individual was identified. The three associated funerary objects are one lot of flakes, one lot of hammer stones, and one lot of pottery.

A preponderance of the evidence supports a determination that the individual is Native American, based on artifactual context. Ethnohistoric and artifactual evidence indicates that the area around Daggett Solar Site was occupied by the Serrano Tribe, often called the Vanyume or Desert Serrano. This area has traditionally been identified as Serrano ancestral territory. When interviewed by John P. Harrington in the early 1900s, Serrano tribal leader Santos Manuel identified the area northeast of this section of the Mojave River (which he called Maviat) as the Serrano village of Tutupiat,

Sometime prior to 2017, human remains representing, at minimum, one individual were removed from Manix Site (UCR 3209, Locality 28-3) in San Bernardino County, CA. The human remains belong to an individual of indeterminate sex and age. No known individual was identified. No associated funerary objects are present.

There is little evidence to establish a time-period for these human remains. A preponderance of the evidence supports a determination that the individual is Native American, based on the ethnographic context of the larger site and area. Ethnohistoric evidence indicates that the area around Manix Lake—east of the mountains known to the Serrano as Pavakupat and northeast of the Serrano village of Tutupiat—was occupied by the Serrano Tribe, often called the Vanyume or Desert Serrano.

Determinations Made by the San Bernardino County Museum

Personnel of the San Bernardino County Museum have determined that:

• Pursuant to 25 U.S.C. 3001(9), the human remains described in this notice represent the physical remains of 10 individuals of Native American ancestry.

• Pursuant to 25 U.S.C. 3001(3)(A), the 29 objects described in this notice are reasonably believed to have been placed with or near individual human remains at the time of death or later as part of the death rite or ceremony.

• Pursuant to 25 U.S.C. 3001(2), there is a relationship of shared group identity that can be reasonably traced between the Native American human remains and associated funerary objects and the Morongo Band of Mission Indians, California [previously listed as Morongo Band of Cahuilla Mission Indians of the Morongo Reservation]; and the San Manuel Band of Mission Indians, California [previously listed as San Manual Band of Serrano Mission Indians of the San Manual Reservation] (hereafter referred to as “The Affiliated Tribes”).

Additional Requestors and Disposition

Lineal descendants or representatives of any Indian Tribe or Native Hawaiian organization not identified in this notice that wish to request transfer of control of these human remains and associated funerary objects should submit a written request with information in support of the request to Tamara Serrao-Leiva, San Bernardino County Museum, 2024 Orange Tree Lane, Redlands, CA 92373, telephone (909) 798-8623, email tserrao-leiva@sbcm.sbcounty.gov, by May 27, 2021. After that date, if no additional requestors have come forward, transfer of control of the human remains and associated funerary objects to The Affiliated Tribes may proceed.

The San Bernardino County Museum is responsible for notifying The Consulted and Invited Tribes and Groups that this notice has been published.

Dated: April 14, 2021.
Melanie O'Brien,
Manager, National NAGPRA Program.

[FR Doc. 2021-08774 Filed 4-26-21; 8:45 am]

BILLING CODE 4312-52-P